DEPARTMENT OF THE INTERIOR

Bureau of Indian Affairs

Operation and Maintenance Rate Adjustment for the Colorado River Irrigation Project, Arizona

AGENCY: Bureau of Indian Affairs, Interior.

ACTION: Notice of proposed rate adjustment.

SUMMARY: The Bureau of Indian Affairs proposes to adjust the assessment rates for operating and maintaining the Colorado River Irrigation Project for the 2001 irrigation season.

DATES: Interested parties may submit comments on the proposed rate adjustment. Comments must be submitted on or before December 4, 2000.

ADDRESSES: All comments concerning the proposed rate adjustment must be in writing and addressed to the Bureau of Indian Affairs, Director of Trust Responsibilities, ATTN: Irrigation and Power, Mail Stop 3061, 1849 C Street, NW., Washington, DC 20240, telephone; (202) 208-5480.

FOR FURTHER INFORMATION CONTACT: Regional Director, Bureau of Indian Affairs, Western Region, P.O. Box 10, Phoenix, Arizona 85001; telephone (602) 379-6956.

SUPPLEMENTARY INFORMATION: The authority to issue this document is vested in the Secretary of the Interior by 5 U.S.C. 301 and the Act of August 14, 1914 (38 Stat. 583; 25 U.S.C. 385). The Secretary has delegated this authority to the Assistant Secretary—Indian Affairs pursuant to part 209 Departmental Manual, Chapter 8.1A and memorandum dated January 25, 1994, from Chief of Staff, Department of the Interior, to Assistant Secretaries, and Heads of Bureaus and Offices. The new rates are specified in the following schedule.

This notice is given in accordance with Section 171.1(e) and 171.1(g) of part 171, Subchapter H, Chapter 1, of Title 25 of the Code of Federal Regulations, which provides for the fixing and announcing the rates for annual operation and maintenance assessments and related information of Bureau of Indian Affairs irrigation projects.

Background

The assessment rates are based on a prepared estimate of the cost of normal operation and maintenance of the irrigation project. Normal operation and maintenance means the expenses we incur to provide direct support or benefit to the project's activities for administration, operation, maintenance, and rehabilitation. We must include at least:

(a) Personnel salaries and benefits for the project engineer/manager and our employees under his management/control;

(b) Materials and supplies;

(c) Major and minor vehicle and equipment repairs;

(d) Equipment, including transportation, fuel, oil, grease, lease and replacement;

(e) Capitalization expenses;

(f) Acquisition expenses; and

(g) Other expenses we determine necessary to properly perform the activities and functions characteristic of an irrigation project.

Payments

The irrigation operation and maintenance assessments become due based on locally established payment requirements. No water shall be delivered to any of these lands until all irrigation charges have been paid.

Interest and Penalty Fees

Interest, penalty, and administrative fees will be assessed, where required by law, on all delinquent operation and maintenance assessment charges as prescribed in the Code of Federal Regulations, Title 4, Part 102, Federal Claims Collection Standards; and 42 BIAM Supplement 3, part 3.8 Debt Collection Procedures. Beginning 30 days after the due date, interest will be assessed at the rate of the current value of funds to the U.S. Treasury. An administrative fee of $12.50 will be assessed each time an effort is made to collect a delinquent debt; a penalty charge of 6 percent per year will be charged on delinquent debts over 90 days old and will accrue from the date the debt became delinquent. No water shall be delivered to any farm unit until all irrigation charges have been paid. Within 180 days a delinquent debt will be forwarded to the U.S. Treasury for further action in accordance with Debt Collection Improvement Act of 1996 (Public Law 104-134).

Rate Adjustment

The following table illustrates the impact of the rate adjustment:

Colorado River Irrigation Project
[Irrigation rate per assessable acre]
| Present 2000 | Proposed 2001 | Proposed 2002
Up to 5 acre-feet/acre | $38.50 | $37.00 | $37.00.
Excess Water/acre-foot | 17.00 | Unchanged | Unchanged.

Determinations and Certifications

Regulatory Planning and Review (E.O. 12866): This rate adjustment is not a significant regulatory action and has been reviewed by the Office of Management and Budget under Executive Order 12866.

Regulatory Flexibility Act: This rate making is not a rule for the purposes of the Regulatory Flexibility Act because it is “a rule of particular applicability relating to rates” (5 U.S.C. § 601(2)).

Unfunded Mandates Reform Act: This rate adjustment imposes no unfunded mandates on any governmental or private entity and is in compliance with the provisions of the Unfunded Mandates Reform Act of 1995.

Takings Implication Assessment (E.O. 12630): The Department has determined that this rate adjustment does not have significant “takings” implications.

Federalism (E.O. 13132): The Department has determined that this rate adjustment does not have significant Federalism effects because it pertains solely to Federal-tribal relations and will not interfere with the roles, rights, and responsibilities of states.

Civil Justice Reform (E.O. 12988): The Department has certified to the Office of Management and Budget (OMB) that this rate adjustment meets the applicable standards provided in sections 3(a) and 3(b)(2) of Executive Order 12988.

Paperwork Reduction Act: This rate adjustment does not contain collections of information requiring approval under the Paperwork Reduction Act of 1995.

National Environmental Policy Act (NEPA): The Department has determined that this rate adjustment does not constitute a major Federal action significantly affecting the quality of the human environment and that no detailed statement is required under the National Environmental Policy Act of 1969.

Public Comment Solicitation

Interested persons may submit written comments regarding the proposed rate adjustment to the location identified in the ADDRESSES section of this document. Our practice is to make comments, including names and home addresses of respondents, available for public review during regular business hours. Individual respondents may request confidentiality. If you wish to request that we consider withholding your name, street address, and other contact information (such as Internet address, FAX, or phone number) from public review or from disclosure under the Freedom of Information Act, you must state this prominently at the beginning of your comment. We will honor your request to the extent allowable by law. However, we will not consider anonymous comments. We will make all submissions from organizations or businesses, and from individuals identifying themselves as representatives or officials of organizations or businesses, available for public inspection in their entirety.

Dated: September 27, 2000.
Kevin Gover,
Assistant Secretary—Indian Affairs

[FR Doc. 00-25531 Filed 10-4-00; 8:45 am]

BILLING CODE 4310-02-P